DEPARTMENT OF DEFENSE

GENERAL SERVICES ADMINISTRATION

NATIONAL AERONAUTICS AND SPACE ADMINISTRATION

48 CFR Parts 8 and 24

[FAC 2001-16; Item IX]

Federal Acquisition Regulation; Technical Amendments

AGENCIES: Department of Defense (DoD), General Services Administration (GSA), and National Aeronautics and Space Administration (NASA).

ACTION: Final rule.

SUMMARY: This document makes amendments to the Federal Acquisition Regulation (FAR) in order to update references and make editorial changes.

DATES: Effective Date: October 1, 2003.

FOR FURTHER INFORMATION CONTACT: The FAR Secretariat, Room 4035, GS Building, Washington, DC, 20405, (202) 501-4755, for information pertaining to status or publication schedules. Please cite FAC 2001-16, Technical Amendments.

List of Subjects in 48 CFR Parts 8 and 24

Government procurement.

Dated: September 24, 2003.
Laura G. Auletta,
Director, Acquisition Policy Division.

Therefore, DoD, GSA, and NASA amend 48 CFR parts 8 and 24 as set forth below:

1. The authority citation for 48 CFR parts 8 and 24 is revised to read as follows:

Authority: 40 U.S.C. 121(c); 10 U.S.C. chapter 137; and 42 U.S.C. 2473(c).

PART 8—REQUIRED SOURCES OF SUPPLIES AND SERVICES

2. Amend section 8.404 by revising the first sentence of paragraph (b)(6) to read as follows:

8.404 Using schedules.

* * * * *

(b) * * *

(6) * * * When conducting evaluations and before placing an order, consider including, if available, one or more small business, veteran-owned small business, service-disabled veteran-owned small business, HUBZone small business, woman-owned small business, and/or small disadvantaged business schedule contractor(s). * * *

* * * * *

PART 24—PROTECTION OF PRIVACY AND FREEDOM OF INFORMATION

§ 24.202 [Amended]

3. Amend section 24.202 by—

a. Removing the em dash at the end of the introductory text of paragraph (a);

b. Removing paragraph (a)(1); and

c. Removing paragraph designation “(a)(2)” and the word “Set” and adding “set” in its place.

[FR Doc. 03-24590 Filed 9-30-03; 8:45 am]

BILLING CODE 6820-EP-P